POSTAL SERVICE

39 CFR Part 20

International Mail Postal Rates

AGENCY: Postal Service.

ACTION: Final rule.

SUMMARY: The Postal Service, after considering the comments submitted in response to its request published in the Federal Register on October 16, 2001 (66 FR 52555-52560), for comments on proposed changes in international postage rates, hereby gives notice that it is implementing the proposed rates.

EFFECTIVE DATE: 12:01 a.m., Sunday, January 13, 2002.

FOR FURTHER INFORMATION CONTACT: Walter J. Grandjean at (703) 292-3579.

SUPPLEMENTARY INFORMATION: On October 16, 2001, the Postal Service published in the Federal Register a notice of proposed changes in international postage rates (66 FR 52555-52560). The Postal Service requested comments by November 15, 2001, and by that date received two comments. Both were from the same publisher using the publishers' periodical rates.

Both commenters stated that if the rates were to be implemented in January 2002, not enough time would be allowed to change software, either company specific proprietary or industry-wide software. Both suggested that the rates not be implemented before March 31, 2002, at the earliest. Both stated that implementation concurrent with the domestic rates in R2001-1 would be appropriate. One commenter noted the dramatic increase in some rate cells for items to Mexico and questioned why these rates would be higher than rates to more distant countries.

The Postal Service understands that many mailers will be required to make software changes. The Postal Service itself must make changes. However, the Postal Service believes that it has provided adequate time for mailers to make changes given that notice of the proposed change was given on October 16, 2001.

Rates are based on the cost of providing service to the countries in a rate group. Where there is more than one country in a rate group, the costs are an average. Where there is a single country in a rate group, the rate reflects the cost of providing service to that country. The publishers' periodical rates to Mexico are currently higher than the rates to Canada and all other countries. Separating the rates for all other countries into three rate groups does not alter the costs of providing service to Mexico. It should be noted that while the first two weight increments for Mexico increased by 25 percent, this is a smaller increase than the increases for the same weight increments for rate groups 3, 4, and 5. The rate increase for Mexico is not out of line with the overall increase to other countries.

After reviewing and considering the comments received, the Postal Service adopts the following postage rates and amends the International Mail Manual (IMM), which is incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. The International Mail Manual (IMM) is amended to incorporate the following postage rates:

International Priority Airmail Rates
Rate group | Per piece rate | Drop shipment per pound | Full service per pound
1 (Canada) | $0.28 | $2.60 | $3.60
2 (Mexico) | 0.12 | 4.60 | 5.60
3 | 0.25 | 4.00 | 5.00
4 | 0.25 | 5.50 | 6.50
5 | 0.12 | 4.85 | 5.85
6 | 0.12 | 4.75 | 5.75
7 | 0.12 | 6.25 | 7.25
8 | 0.12 | 7.25 | 8.25
Worldwide | 0.20 | 7.00 | 8.00

International Surface Air Lift Rates
Rate group | Per piece rate | Full service per pound: Regular | Full service per pound: M-bag | Direct shipment per pound: Regular | Direct shipment per pound: M-bag | ISC drop shipment per pound: Regular | ISC drop shipment per pound: M-bag
1 (Canada) | $0.28 | $3.05 | $1.50 | $2.55 | $1.50 | $2.05 | $1.40
2 (Mexico) | 0.12 | 4.35 | 1.60 | 3.85 | 1.60 | 3.35 | 1.50
3 | 0.25 | 3.40 | 1.75 | 2.90 | 1.75 | 2.40 | 1.50
4 | 0.25 | 3.75 | 2.50 | 3.25 | 2.50 | 2.75 | 2.50
5 | 0.12 | 4.65 | 2.25 | 4.15 | 2.25 | 3.65 | 2.00
6 | 0.12 | 4.55 | 2.25 | 4.05 | 2.25 | 3.55 | 2.00
7 | 0.12 | 4.65 | 2.50 | 4.15 | 2.50 | 3.65 | 2.25
8 | 0.12 | 6.50 | 3.25 | 6.00 | 3.25 | 5.50 | 3.00
Note: M-bags are subject to the minimum rate for 11 pounds.

Publishers' Periodical Rates
Weight not over (oz.) | Rate group 1 (Canada) | Rate group 2 (Mexico) | Rate group 3 | Rate group 4 (Australia, Japan, New Zealand) | Rate group 5
1 | $0.45 | $0.60 | $0.60 | $0.60 | $0.60
2 | 0.51 | 0.75 | 0.71 | 0.71 | 0.74
3 | 0.57 | 0.90 | 0.82 | 0.82 | 0.88
4 | 0.63 | 1.05 | 0.93 | 0.93 | 1.02
5 | 0.69 | 1.20 | 1.04 | 1.04 | 1.16
6 | 0.75 | 1.35 | 1.15 | 1.15 | 1.30
7 | 0.81 | 1.50 | 1.26 | 1.26 | 1.44
8 | 0.87 | 1.65 | 1.37 | 1.37 | 1.58
12 | 1.15 | 2.13 | 1.81 | 1.81 | 2.02
16 | 1.43 | 2.61 | 2.25 | 2.25 | 2.46
20 | 1.59 | 3.09 | 2.69 | 2.69 | 2.90
24 | 1.75 | 3.57 | 3.13 | 3.13 | 3.34
28 | 1.91 | 4.05 | 3.57 | 3.57 | 3.78
32 | 2.07 | 4.53 | 4.01 | 4.01 | 4.22
36 | 3.87 | 5.01 | 4.45 | 4.45 | 4.66
40 | 3.99 | 5.49 | 4.89 | 4.89 | 5.10
44 | 4.11 | 5.97 | 5.33 | 5.33 | 5.54
48 | 4.23 | 6.45 | 5.77 | 5.77 | 5.98
52 | 4.39 | 6.93 | 6.21 | 6.21 | 6.42
56 | 4.55 | 7.41 | 6.65 | 6.65 | 6.86
60 | 4.71 | 7.89 | 7.09 | 7.09 | 7.30
64 | 4.87 | 8.37 | 7.53 | 7.53 | 7.74
$0.25 per pound discount for drop shipments tendered at the New Jersey International and Bulk Mail Center.

Country Rate Groups
Country | Rate Groups: IPA | Rate Groups: ISAL | Rate Groups: Publishers' periodicals
Afghanistan | 8 |  | 5
Albania | 5 | 5 | 5
Algeria | 8 | 8 | 5
Andorra | 3 |  | 3
Angola | 8 | 8 | 5
Anguilla | 6 |  | 5
Antigua and Barbuda | 6 |  | 5
Argentina | 6 | 6 | 5
Armenia | 8 |  | 5
Aruba | 6 | 6 | 5
Ascension | 5 |  | 5
Australia | 4 | 4 | 4
Austria | 3 | 3 | 5
Azerbaijan | 8 |  | 5
Bahamas | 6 |  | 5
Bahrain | 8 | 8 | 5
Bangladesh | 8 | 8 | 5
Barbados | 6 |  | 5
Belarus | 5 |  | 5
Belgium | 3 | 3 | 3
Belize | 6 | 6 | 5
Benin | 8 | 8 | 5
Bermuda | 6 |  | 5
Bhutan | 8 |  | 5
Bolivia | 6 | 6 | 5
Bosnia-Herzegovina | 5 |  | 5
Botswana | 8 |  | 5
Brazil | 6 | 6 | 5
British Virgin Islands | 6 |  | 5
Brunei Darussalam | 7 |  | 5
Bulgaria | 5 | 5 | 5
Burkina Faso | 8 | 8 | 5
Burma (Myanmar) | 8 |  | 5
Burundi | 8 |  | 5
Cambodia | 7 |  | 5
Cameroon | 8 | 8 | 5
Canada | 1 | 1 | 1
Cape Verde | 8 |  | 5
Cayman | 6 |  | 5
Central African Republic | 8 | 8 | 5
Chad | 8 |  | 5
Chile | 6 | 6 | 5
China | 7 | 7 | 5
Colombia | 6 | 6 | 5
Comoros Islands | 8 |  | 5
Congo (Brazzaville), Republic of the | 8 |  | 5
Congo (Kinshasa), Democratic Republic of the | 8 | 8 | 5
Costa Rica | 6 | 6 | 5
Côte d'Ivoire (Ivory Coast) | 8 | 8 | 5
Croatia | 5 |  | 5
Cuba | 6 | 6 | 5
Cyprus | 8 |  | 5
Czech Republic | 5 | 5 | 5
Denmark | 3 | 3 | 3
Djibouti | 8 |  | 5
Dominica | 6 |  | 5
Dominican Republic | 6 | 6 | 5
Ecuador | 6 | 6 | 5
Egypt | 8 | 8 | 5
El Salvador | 6 | 6 | 5
Equatorial Guinea | 8 |  | 5
Eritrea | 8 |  | 5
Estonia | 5 |  | 5
Ethiopia | 8 | 8 | 5
Falkland Islands | 6 |  | 5
Faroe Islands | 5 |  | 3
Fiji | 7 | 7 | 5
Finland | 3 | 3 | 3
France (Includes Corsica & Monaco) | 3 | 3 | 3
French Guiana | 6 | 6 | 5
French Polynesia (Includes Tahiti) | 7 |  | 5
Gabon | 8 | 8 | 5
Gambia | 8 |  | 5
Georgia, Republic of | 8 |  | 5
Germany | 3 | 3 | 3
Ghana | 8 | 8 | 5
Gibraltar | 3 |  | 3
Great Britain and Northern Ireland | 3 | 3 | 3
Greece | 3 | 3 | 3
Greenland | 3 |  | 3
Grenada | 6 |  | 5
Guadeloupe | 6 |  | 5
Guatemala | 6 | 6 | 5
Guinea | 8 |  | 5
Guinea-Bissau | 8 |  | 5
Guyana | 6 | 6 | 5
Haiti | 6 | 6 | 5
Honduras | 6 | 6 | 5
Hong Kong | 7 | 7 | 5
Hungary | 5 | 5 | 5
Iceland | 3 | 3 | 3
India | 8 | 8 | 5
Indonesia (Includes East Timor) | 7 | 7 | 5
Iran | 8 | 8 | 5
Iraq | 8 |  | 5
Ireland | 3 | 3 | 3
Israel | 3 | 3 | 3
Italy | 3 | 3 | 3
Jamaica | 6 | 6 | 5
Japan | 4 | 4 | 4
Jordan | 8 | 8 | 5
Kazakhstan | 8 |  | 5
Kenya | 8 | 8 | 5
Kiribati | 7 |  | 5
Korea, Dem. People's Rep. of (North) | 7 |  | 5
Korea, Republic of (South) | 7 | 7 | 5
Kuwait | 8 | 8 | 5
Kyrgyzstan | 5 |  | 5
Laos | 7 |  | 5
Latvia | 5 |  | 5
Lebanon | 8 | 8 | 5
Lesotho | 8 |  | 5
Liberia | 8 |  | 5
Libya | 8 |  | 5
Liechtenstein | 3 | 3 | 3
Lithuania | 5 |  | 5
Luxembourg | 3 | 3 | 3
Macao | 5 |  | 5
Macedonia, Republic of | 5 |  | 5
Madagascar | 8 | 8 | 5
Malawi | 8 |  | 5
Malaysia | 7 | 7 | 5
Maldives | 8 |  | 5
Mali | 8 | 8 | 5
Malta | 8 |  | 5
Martinique | 6 |  | 5
Mauritania | 8 | 8 | 5
Mauritius | 8 | 8 | 5
Mexico | 2 | 2 | 2
Moldova | 8 |  | 5
Mongolia | 7 |  | 5
Montserrat | 6 |  | 5
Morocco | 8 | 8 | 5
Mozambique | 8 | 8 | 5
Namibia | 8 |  | 5
Nauru | 7 |  | 5
Nepal | 7 |  | 5
Netherlands | 3 | 3 | 3
Netherlands Antilles | 6 | 6 | 5
New Caledonia | 7 |  | 5
New Zealand | 4 | 4 | 4
Nicaragua | 6 | 6 | 5
Niger | 8 | 8 | 5
Nigeria | 8 | 8 | 5
Norway | 3 | 3 | 3
Oman | 8 | 8 | 5
Pakistan | 8 | 8 | 5
Panama | 6 | 6 | 5
Papua New Guinea | 7 | 7 | 5
Paraguay | 6 | 6 | 5
Peru | 6 | 6 | 5
Philippines | 7 | 7 | 5
Pitcairn Island | 7 |  | 5
Poland | 5 | 5 | 5
Portugal (Includes Azores & Madeira Islands) | 3 | 3 | 3
Qatar | 8 | 8 | 5
Reunion | 8 | 8 | 5
Romania | 5 | 5 | 5
Russia | 5 | 5 | 5
Rwanda | 8 |  | 5
Saint Christopher (St. Kitts) and Nevis | 6 |  | 5
Saint Helena | 8 |  | 5
Saint Lucia | 6 |  | 5
Saint Pierre & Miquelon | 6 |  | 5
Saint Vincent and the Grenadines | 6 |  | 5
San Marino | 3 |  | 3
Sao Tome and Principe | 5 |  | 5
Saudi Arabia | 8 | 8 | 5
Senegal | 8 | 8 | 5
Serbia-Montenegro (Yugoslavia) | 5 |  | 5
Seychelles | 8 |  | 5
Sierra Leone | 8 |  | 5
Singapore | 7 | 7 | 5
Slovak Republic (Slovakia) | 5 |  | 5
Slovenia | 5 |  | 5
Solomon Islands | 7 |  | 5
Somalia | 8 |  | 5
South Africa | 8 | 8 | 5
Spain (Includes Canary Islands) | 3 | 3 | 3
Sri Lanka | 8 | 8 | 5
Sudan | 8 | 8 | 5
Suriname | 6 | 6 | 5
Swaziland | 8 |  | 5
Sweden | 3 | 3 | 3
Switzerland | 3 | 3 | 3
Syria | 8 | 8 | 5
Taiwan | 7 | 7 | 5
Tajikistan | 8 |  | 5
Tanzania | 8 | 8 | 5
Thailand | 7 | 7 | 5
Togo | 8 | 8 | 5
Tonga | 7 |  | 5
Trinidad and Tobago | 6 | 6 | 5
Tristan da Cunha | 8 |  | 5
Tunisia | 8 | 8 | 5
Turkey | 5 | 5 | 5
Turkmenistan | 5 |  | 5
Turks and Caicos Islands | 6 |  | 5
Tuvalu | 7 |  | 5
Uganda | 8 | 8 | 5
Ukraine | 8 |  | 5
United Arab Emirates | 8 | 8 | 5
Uruguay | 6 | 6 | 5
Uzbekistan | 8 |  | 5
Vanuatu | 7 |  | 5
Vatican City | 3 |  | 3
Venezuela | 6 | 6 | 5
Vietnam | 7 |  | 5
Wallis and Futuna Islands | 7 |  | 5
Western Samoa | 7 |  | 5
Yemen | 8 | 8 | 5
Zambia | 8 | 8 | 5
Zimbabwe | 8 | 8 | 5

Stanley F. Mires,
Chief Counsel, Legislative.

[FR Doc. 01-30626 Filed 12-12-01; 8:45 am]

BILLING CODE 7710-12-P